DEPARTMENT OF COMMERCE

International Trade Administration

[A-570-868]

Amended Final Results of the First Antidumping Duty Administrative Review: Folding Metal Tables and Chairs From the People's Republic of China

AGENCY: Import Administration, International Trade Administration, Department of Commerce.

DATES: Effective Date: January 21, 2005.

FOR FURTHER INFORMATION CONTACT: Amber Musser, Import Administration, International Trade Administration, U.S. Department of Commerce, 14th Street and Constitution Avenue, NW., Washington, DC 20230; telephone: (202) 482-1777.

Amendment to Final Results

In accordance with section 751(a) of the Tariff Act of 1930, as amended (the “Act”), on December 20, 2004, the Department published the final results of the first administrative review of the antidumping duty order on folding metal tables and chairs from the People's Republic of China (“PRC”), in which we determined that the cooperative respondent, Dongguan Shichang Metals Factory Co., Ltd. and Maxchief Investments, Ltd. (“Shichang”), sold subject merchandise to the United States at less than normal value during the period of review (“POR”) (69 FR 75913). On December 20, 2004, we received an allegation, timely filed pursuant to section 751(h) of the Act and 19 CFR 351.224(C)(2), from Shichang that the Department made a ministerial error in its final results. The petitioner ¹ did not comment on the alleged ministerial error.

¹ The petitioner is Meco Corporation.

After analyzing Shichang's submission, we have determined, in accordance with section 751(h) of the Act and 19 CFR 351.224, that we made a ministerial error in our final margin calculation for Shichang. Specifically, we incorrectly calculated the selling, general, and administrative (“SG&A”) and profit financial ratios because we did not include the line item “Purchase of Traded Goods” in the denominator of these ratios. For a detailed discussion of the ministerial error, as well as the Department's analysis, see the memorandum to James C. Doyle, Office Director, from Amber Musser, analyst, dated January XX, 2005.

Therefore, in accordance with section 751(h) of the Act and 19 CFR 351.224(e), we are amending the final results of the first antidumping duty administrative review of the order on folding metal tables and chairs from the PRC. The revised dumping margin is as follows:

Exporter/manufacturer | Original final margin percentage | Revised final margin percentage
Dongguan Shichang Metals Factory Co., Ltd. and Maxchief Investments, Ltd. | 4.27 | 3.30

We will notify U.S. Customs and Border Protection (“CBP”) of the revised cash deposit rate for Shichang.

Scope of the Order

The products covered by this order consist of assembled and unassembled folding tables and folding chairs made primarily or exclusively from steel or other metal, as described below:

(1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

a. Lawn furniture;

b. Trays commonly referred to as “TV trays”;

c. Side tables;

d. Child-sized tables;

e. Portable counter sets consisting of rectangular tables 36″ high and matching stools; and

f. Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (“folding metal chairs”). Folding metal chairs include chairs with one or more cross-braces, regardless of shape or size, affixed to the front and/or rear legs with rivets, welds or any other type of fastener. Folding metal chairs include: Those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

a. Folding metal chairs with a wooden back or seat, or both;

b. Lawn furniture;

c. Stools;

d. Chairs with arms; and

e. Child-sized chairs.

The subject merchandise is currently classifiable under subheadings 9401710010, 9401710030, 9401790045, 9401790050, 9403200010, 9403200030, 9403708010, 9403708020, and 9403708030 of the HTSUS. Although the HTSUS subheadings are provided for convenience and customs purposes, the Department's written description of the merchandise is dispositive.

These amended final results of this new shipper review and notice are in accordance with sections 751(h) and 777(i) of the Act and 19 CFR 351.224(e).

Dated: January 11, 2005.
Joseph A. Spetrini,
Acting Assistant Secretary for Import Administration.

[FR Doc. E5-209 Filed 1-19-05; 8:45 am]

BILLING CODE 3510-DS-P